DEPARTMENT OF HEALTH AND HUMAN SERVICES

Office of the Secretary

Statement of Organization, Functions, and Delegations of Authority

Part A, Office of the Secretary, Statement of Organization, Functions, and Delegations of Authority for the U.S. Department of Health and Human Services is being amended at Chapter AA, Immediate Office of the Secretary, as last amended at 76 FR 4703, dated, January 26, 2011, and at Chapter AQ, Office of Global Health Affairs (OGHA), as last amended at 69 FR 51679-80, dated August 20, 2004, as follows:

I. Under Part A, Chapter AA, Section AA.10 Organization, replace “Office of Global Health Affairs (AQ)” with “Office of Global Affairs (AQ).”

II. Under Part A, Chapter AQ, replace all references to the “Office of Global Health Affairs” with “Office of Global Affairs” and all references to “OGHA” with “OGA.”

III. Delegation of Authority. All delegations and redelegations of authority made to officials and employees of the Office of Global Affairs will continue in them or their successors pending further redelegation, provided they are consistent with this reorganization.

Dated: June 14, 2011.
E.J. Holland, Jr.,
Assistant Secretary for Administration.

[FR Doc. 2011-15517 Filed 6-21-11; 8:45 am]

BILLING CODE 4110-60-P